DEPARTMENT OF THE INTERIOR

Bureau of Land Management

[WY-030-1310-DB]

Notice of Intent To Prepare an Environmental Impact Statement and Conduct Scoping for the Seminoe Road Coalbed Methane Natural Gas Development Project, Carbon County, Wyoming, and Notice of the Potential for Amendment of the Great Divide Resource Management Plan

AGENCY: Bureau of Land Management, Interior.

ACTION: Notice of Intent (NOI) to prepare an Environmental Impact Statement (EIS) and to conduct scoping for the Seminoe Road Gas Development Project, Carbon County, Wyoming, and Notice of the Potential for Amendment of the Great Divide Resource Management Plan (RMP).

SUMMARY: Under section 102(2)(C) of the National Environmental Policy Act (NEPA) of 1969, as amended, the Bureau of Land Management (BLM), Rawlins Field Office, announces its intent to prepare an EIS on the potential impacts of a proposed coalbed methane natural gas development project. In September 2002, the BLM received from Dudley & Associates, LLC (Dudley) a proposal to drill and develop up to 1,240 wells (on an estimated 785 well pad sites) and associated facilities. The proposed project area encompasses approximately 137,000 acres of mixed Federal, State, and private land. A 30 to 40 year development and operational period is proposed. The project area is located approximately 20 air miles northeast of the city of Rawlins, Carbon County, Wyoming. Based on the information developed during the course of this analysis, the BLM may decide it is necessary to amend the 1990 Great Divide RMP.

DATES: This notice initiates the public scoping process. The BLM can best use public input if comments and resources information are submitted within 60 days of the publication of this notice in the Federal Register. Public scoping meetings will be held in Rawlins, WY and Hanna, WY. The BLM will notify the public of meeting dates, times, and locations 15 days in advance by a news release to the media, individual letter mailings, and posting on the BLM Web site listed below.

ADDRESSES: Address questions and comments to the Bureau of Land Management, Rawlins Field Office, David Simons, Team Leader, 1300 North Third Street, PO Box 2407, Rawlins, Wyoming 82301, telephone (307) 328-4200, or send them electronically to rawlins_wymail@blm.gov. Additionally, the scoping notice will be posted on the Wyoming BLM National Environmental Policy Act (NEPA) Web page at http://www.wy.blm.gov/nepa/nepadocs.htm. Your response is important and will be considered in the environmental analysis process. If you do respond, we will keep you informed of decisions resulting from this analysis. Please note that public comments and information submitted regarding this project including names, e-mail addresses, and street addresses of the respondents will be available for public review and disclosure at the above address during regular business hours (7:45 a.m. to 4:30 p.m.) Monday through Friday, except holidays. Individual respondents may request confidentiality. If you wish to withhold your name, email address, or street address from public review or from disclosure under the Freedom of Information Act, you must state this prominently at the beginning of your written comment. Such requests will be honored to the extent allowed by the law. All submissions from organizations or businesses, and from individuals identifying themselves as representatives or officials of organizations or businesses, will be made available for public inspection in their entirety.

FOR FURTHER INFORMATION CONTACT: Bureau of Land Management, David Simons, Project Manager, 1300 North Third Street, PO Box 2407, Rawlins, Wyoming 82301, phone (307) 328-4200, email address: rawlins_wymail@blm.gov.

SUPPLEMENTARY INFORMATION: The Seminoe Road Gas Development Project is located in Townships 21, 22, 23, and 24 North, Ranges 84, 85 and 86 West, Sixth Principal Meridian, Carbon County, Wyoming. The project area is located approximately 20 air miles northeast of Rawlins and approximately 15 air miles northeast of Sinclair, Wyoming east of Carbon County Road 351 (Seminoe Road). The project area covers approximately 137,000 acres of Federal (49 percent) and private (49 percent) surface with a small amount of State land (<2 percent). The BLM Rawlins Field Office manages the Federal surface lands and the Federal mineral estate.

In September 2002, Dudley & Associates LLC (Dudley) submitted a proposal to drill and develop potentially up to 1,240 coalbed methane natural gas wells on up to 785 locations. Associated project facilities would include roads, well pads, gas and water collection pipelines, compressor stations, water disposal systems, and a power supply system. During the preparation of the EIS, proposed development within the project area on public lands may be approved subject to an environmental review by BLM and to a finding that such development is consistent with the 1990 Great Divide Resource Management Plan (RMP). Such a review will also ensure that the proposed development would not limit the consideration of a range of reasonable alternatives for this proposed Seminoe Road Gas Development Project EIS.

Any authorizations and actions proposed for approval in the EIS will be evaluated to determine if they conform to the decisions in the 1990 Great Divide RMP. Actions that result in a change in the scope of resource uses, terms and conditions, and decisions of the approved Great Divide RMP may require amendment of the RMP. If the BLM determines that a plan amendment is necessary, preparation of the Seminoe Road Coalbed Methane Natural Gas Development Project EIS and the analysis necessary for the amendment may occur simultaneously. Appropriate analysis will accompany the decision to conduct an RMP amendment.

Development of coalbed methane natural gas development from the Seminoe Road area will provide additional supplies of this clean-burning fuel to consumers. This project meets the goals and objectives of the President's National Energy Plan by diversifying domestic energy supplies, improving and accelerating environmental protection, and strengthening the Nation's energy security.

The EIS will address cumulative impacts and include consideration of the effects of the projects addressed in both the EA for the Seminoe Road Coalbed Methane Pilot Project (WY-030-EA00-288) and the EA for the Seminoe Road Natural Gas Gathering Pipeline Access Road and Compressor Station Storage Yard Access Road Project (WY-030-EA2-229). Potential issues to be addressed in the EIS include but are not limited to: Surface and ground water resources, air quality, wildlife populations and their habitats, private and public land access concerns, road development and transportation, reclamation, noxious weed control, reclamation, conflicts with livestock grazing operations, protection of potential cultural and paleontological resources, threatened and endangered wildlife and plant species, and socioeconomic impacts.

The project area is managed under the Great Divide RMP (1990). This RMP is currently being revised under the title of Rawlins RMP, with completion scheduled for October 2004. Because the Seminoe Road Gas Development Project EIS and the Rawlins RMP revision will be developed on overlapping schedules, the information and analysis needed for these planning efforts will be jointly prepared and used for both EISs, to the greatest extent possible. Further information of the status of this RMP revision may be obtained from the Web site at http://www.rawlinsrmp.com.

Dated: February 12, 2003.
Donald A. Simpson,
Acting State Director.

[FR Doc. 03-6085 Filed 3-12-03; 8:45 am]

BILLING CODE 4310-22-P